DEPARTMENT OF TRANSPORTATION

Federal Aviation Administration

Notice of Opportunity for Public Continent on Surplus Property Release at Mobile Downtown Airport, Mobile, AL

AGENCY: Federal Aviation Administration (FAA), DOT.

ACTION: Notice of intent to rule on land release request.

SUMMARY: Under the provisions of Title 49, U.S.C. Section 47153(c), notice is being given that the FAA is considering a request from the Mobile Airport Authority to waive the requirement that a 46.75-acre parcel of surplus property, located at the Mobile Downtown Airport, be used for aeronautical purposes.

DATES: Comments must be received on or before June 2, 2008.

ADDRESSES: Comments on this notice may be mailed or delivered in triplicate to the FAA at the following address: Jackson Airports District Office, 100 West Cross Street, Suite B, Jackson, MS 39208-2307.

In addition, one copy of any comments submitted to the FAA must be mailed or delivered to Mr. Thomas Hughes, Airport Director at the following address: P.O. Box 88004, Mobile, Alabama 36608-0004.

FOR FURTHER INFORMATION CONTACT: William Schuller, Program Manager, Jackson Airports District Office, 100 West Cross Street, Suite B, Jackson, MS 39208-2307, (601) 664-9883. The land release request may be reviewed in person at this same location.

SUPPLEMENTARY INFORMATION: The FAA is reviewing a request by the Mobile Airport Authority to release 46.75 acres of surplus property at the Mobile Downtown Airport. The property will be exchanged within the Mobile Airport Authority for non-obligated land better suited for aeronautical purposes. The property will be held by the Mobile Airport Authority and sold in part or in whole to commercial or industrial users. The property is located along Mobile Bay and is separated from airside operations by existing, non-aeronautical development. The airport will realize equivalent fair market value in the exchange of this property.

Any person may inspect the request in person at the FAA office listed above under FOR FURTHER INFORMATION CONTACT.

In addition, any person may, upon request, inspect the request, notice and other documents germane to the request in person at the offices of the Mobile Airport Authority, Mobile, Alabama.

Issued in Jackson, Mississippi on April 1, 2008.
Rans D. Black,
Manager, Jackson Airports District Office, Southern Region.

[FR Doc. E8-9617 Filed 5-1-08; 8:45 am]

BILLING CODE 4910-13-M